DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Jianhua (James) Xu, M.S., University of Alberta: Based on the University of Alberta (UA) Report, the respondent's admissions, and additional analysis conducted by ORI in its oversight review, the U.S. Public Health Service (PHS) found that Jianhua (James) Xu, M.S., former technician at UA, engaged in scientific misconduct in research funded by National Heart, Lung, and Blood Institute (NHLBI), National Institutes of Health (NIH), grant R01 HL61751-01.

Mr. Xu performed experiments on the enzyme lipid phosphate phosphatase-1 (LPP-1) from a family of enzymes that affect signal transduction by glycerolipid and sphingolipid phosphate esters as second messengers. A typical experiment involved the investigation of the effects on various glycerolipids, sphingolipids, and other related effector compounds on the activity of LPP-1 either in tissue culture cells or isolated enzyme preparations. Mr. Xu falsified data by adding vanadate to inhibit the enzyme LPP-1, in experiments that purported to show that the inhibition was the result of adding natural lipid effectors. He was also observed deliberately falsifying other colleagues' experiments in a similar manner.

Mr. Xu admits that he alone was responsible for the falsification.

Specifically, Mr. Xu committed scientific misconduct by falsifying data for Figures 1A, 1B, 1C, 2B, 2D, 3, 4, 5, 6, 7, and 8A that he published in: James Xu, et al. “Lipid phosphate phosphatase-1 and Ca²⁺ control lysophosphatidate signaling through EDG-2 receptors.” Journal of Biological Chemistry 275:27520-27530, 2000. The paper was retracted in Journal of Biological Chemistry 278:38104, 2003.

Due to the falsified data, Manuscript #C0007049 by Xu, et al. entitled “Transactivation of platelet-derived growth factor receptors by lysophosphatidate causes tryrosine phosphorylation of lipid phosphate phosphatase-1 and feedback inhibition of EDG-2 receptor activation” was withdrawn. Also, ORI concluded Mr. Xu committed scientific misconduct by deliberately falsifying experiments of other colleagues in the laboratory by adding vanadate to their experiments without the authorization or knowledge of his colleagues.

Mr. Xu provided the following in an admission statement dated March 23, 2003:

For the purpose of disposition of this matter by the Office of Research Integrity (“ORI”) of the U.S. Department of Health and Human Services, I confirm that I began falsifying results of experiments, relating to the inhibition of the enzyme lipid phosphate phosphatase (LPP-1), in which I was initially involved. The falsification consisted of the addition of vanadate to tubes containing certain substances. In order to cover up my initial falsification, I also falsified the experiments of others who were doing related experiments. I only falsified these subsequent experiments to the extent necessary to cover up the original falsification and did not falsify any other experiments.

The research misconduct was significant because the research focused on the study of signal transduction by lipid messenger molecules, which play an important role in regulating cellular processes as diverse as wound repair, regeneration of injured corneal tissues, adipocyte growth obesity, and cell division potentially involved in the development of cancers.

Mr. Xu has entered into a Voluntary Exclusion Agreement (Agreement) in which he has voluntarily agreed for a period of four (4) years, beginning on November 10, 2003:

(1) To exclude himself from any contracting or subcontracting with any agency of the United States Government and from eligibility or involvement in nonprocurement programs of the United States Government referred to as “covered transactions” as defined in the debarment regulations at 45 CFR part 76; and

(2) to exclude himself from serving in any advisory capacity to PHS including but not limited to service on any PHS advisory committee, board, and/or peer review committee, or as a consultant.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 03-30535 Filed 12-8-03; 8:45 am]

BILLING CODE 4150-31-P